DEPARTMENT OF ENERGY

Federal Energy Regulatory Commission

[Docket No. RP96-312-085]

Tennessee Gas Pipeline Company; Notice of Clarification Filing

August 14, 2002.

Take notice that on August 8, 2002, Tennessee Gas Pipeline Company (Tennessee), tendered for filing a clarification to its Negotiated Rate Tariff Filing of July 25, 2002.

Subsequent to its July 25 filing, Tennessee learned that Rhode Island State Energy Partners, L.P. (RISEP) had merged with Rhode Island State Statutory Energy Trust 2000 (Trust), with the Trust emerging as the surviving entity. Therefore, the negotiated rate arrangement filed on July 25, 2002 is with the Trust and not with RISEP.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.200(a)(1)(iii) and the instructions on the Commission's web site under the “e-Filing” link.

Linwood A. Watson, Jr.,
Deputy Secretary.

[FR Doc. 02-21155 Filed 8-19-02; 8:45 am]

BILLING CODE 6717-01-M